DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons whose property and interests in property have been unblocked and who have been removed from the SDN List.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

OFAC previously determined on October 6, 2022 that the individual listed below met one or more of the criteria under Executive Order 14014 of February 10, 2021, “Blocking Property With Respect to the Situation in Burma” (“E.O. 14014”). On September 25, 2023, the Director of OFAC determined that the property and interests in property subject to U.S. jurisdiction of the following individual are no longer blocked, and the individual has been removed from the SDN list.

Individual

1. MYINT, Hlaing Moe, Burma; DOB 09 Jun 1971; nationality Burma; Gender Male; Registration Number 12/YAKANA(N)006982 (Burma) (individual) [BURMA-EO14014] (Linked To: DYNASTY INTERNATIONAL COMPANY LIMITED).

Authority: E.O. 14014, 86 FR 9429.

Dated: September 25, 2023.
Bradley T. Smith,
Director, Office of Foreign Assets Control, U.S. Department of the Treasury.

[FR Doc. 2023-21185 Filed 9-27-23; 8:45 am]

BILLING CODE 4810-AL-P